DEPARTMENT OF AGRICULTURE

Forest Service

Vernal Ranger Districts Travel Management Plan, Ashley National Forest; Duchesne and Daggett Counties, UT; Correction

AGENCY: Forest Service, USDA.

ACTION: Notice; correction

SUMMARY: The Forest Service published a document the Federal Register of November 9, 2007, concerning request for comments on the proposed action for the Roosevelt/Duchesne and Flaming Gorge Ranger Districts Travel Management Plan. The document identified a 45-day comment period from the date of publication. The closing date corresponds with December 24, 2007. In order to avoid, the scoping comment period closing during the holidays, we are extending the comment period to 60 days from the date of the original publication, which corresponds with January 8, 2008.

FOR FURTHER INFORMATION CONTACT: Kris Rutledge, 435-781-5196.

In the Federal Register of November 9, 2007, in FR Doc. 72-217, on page 63551, in the second column the DATES caption to read:

DATES: The comment period on the proposed action will extend 60 days from the date the Notice of Intent is published in the Federal Register. The draft environmental impact statement is expected July 2009 and the final environmental impact statement is expected November 2009.

Dated: November 20, 2007.
Kevin B. Elliott,
Forest Supervisor.

[FR Doc. 07-5875 Filed 11-28-07; 8:45 am]

BILLING CODE 3410-11-P